DEPARTMENT OF COMMERCE

International Trade Administration

Notice of Scope Rulings

AGENCY: Enforcement and Compliance, International Trade Administration, Department of Commerce.

DATES: Effective Date: April 24, 2015.

SUMMARY: The Department of Commerce (“Department”) hereby publishes a list of scope rulings and anticircumvention determinations made between October 1, 2014, and December 31, 2014, inclusive. We intend to publish future lists after the close of the next calendar quarter.

FOR FURTHER INFORMATION CONTACT: Brenda E. Waters, AD/CVD Operations, Customs Liaison Unit, Enforcement and Compliance, International Trade Administration, U.S. Department of Commerce, 14th Street and Constitution Avenue NW., Washington, DC 20230; telephone: 202-482-4735.

SUPPLEMENTARY INFORMATION:

Background

The Department's regulations provide that the Secretary will publish in the Federal Register a list of scope rulings on a quarterly basis.¹ Our most recent notification of scope rulings was published on December 11, 2014.² This current notice covers all scope rulings and anticircumvention determinations made by Enforcement and Compliance between October 1, 2014, and December 31, 2014, inclusive. Subsequent lists will follow after the close of each calendar quarter.

¹ See 19 CFR 351.225(o).

² See Notice of Scope Rulings, 79 FR 73552 (December 11, 2014).

Scope Rulings Made Between October 1, 2014 and December 31, 2014

Mexico.

A-201-504: Certain Circular Welded Non-Alloy Steel Pipe From Mexico

Requestor: Productos Laminados, S.A. de C.V.; Certain types of black tubing manufactured by Productos Laminados to American Society of Testing and Materials standard A-513 are “mechanical tubing,” which is outside the scope of the order; December 3, 2014 (Preliminary).

People's Republic of China

A-570-967 and C-570-968: Aluminum Extrusions From the People's Republic of China

Requestor: Delphi Automotive Systems, LLC (Delphi); The products at issue were four models of core tubes used for automotive heating and cooling systems (also referred to as HVAC systems). The four models are distinguished only by their length and profile. All four models are comprised of extruded hollow, tubular aluminum articles that are bent and end-formed based on customer designs. Delphi imports the core tubes for use in automotive HVAC systems for specific brands of vehicles. The Department found the core tubes inside the scope of the order because they comprised entirely of extruded aluminum and, thus, do not qualify for the finished merchandise exclusion; October 14, 2014.

A-570-967 and C-570-968: Aluminum Extrusions From the People's Republic of China

Requestor: Core Industries LLC (dba Star Trac) (hereinafter referred to as Star Trac); The products at issue were an E-TRx treadmill base kit, E-RB recumbent bike base kit, E-UB upright bike base kit, and eSpinner bike universal base kit. All four models at issue were mainly comprised of non-aluminum materials along with some extruded aluminum components. The Department found that the eSpinner bike universal base kit met the exclusion for a finished goods kit because it contained, at the time of importation, all of the necessary parts to fully assemble a final finished good (e.g., a fully functioning exercise bike). Concerning the E-TRx treadmill base kit, E-RB recumbent bike base kit, and E-UB upright bike base kit, the Department found that the products constituted finished subassemblies that require no further finishing or fabrication after importation. On this basis, the Department found that the three kits constituted excluded finished goods kits; October 23, 2014.

A-570-967 and C-570-968: Aluminum Extrusions From the People's Republic of China

Requestor: Core Industries LLC (dba Star Trac) (hereinafter referred to as Star Trac); The product at issue was a max rack kit which, when assembled, is designed to be used for a variety of strength exercises, including pull-ups, squats, and bench presses. The max rack kit is mainly comprised of non-aluminum materials as well as extruded aluminum parts. The Department found the product met the exclusion criteria for a finished goods kit because it contained non-extruded aluminum parts that went beyond mere fasteners and screws and because the kit contained, at the time of importation, all of the necessary parts to fully assemble a final finished good; October 27, 2014.

A-570-967 and C-570-968: Aluminum Extrusions From the People's Republic of China

Requestor: KIK Custom Products (“KIK”); KIK's telescoping poles, which are composed of aluminum extrusion poles (Aluminum Association alloy series 6063), a plastic handle, a plastic cap, a plastic connector(s) and a plastic peg(s) to hold the telescoping poles in place when extended, are outside the scope of the orders on aluminum extrusions from the PRC because they are finished goods containing aluminum extrusions as parts that are fully and permanently assembled and completed at the time of entry; November 3, 2014.

A-570-967 and C-570-968: Aluminum Extrusions From the People's Republic of China

Requestor: Danfoss LLC; Danfoss LLC's micro channel heat exchangers, consisting of connections, headers or baffles, tubes with micro channels, and fins, are outside the scope of the orders on aluminum extrusions from the PRC because they consist of both extruded aluminum and non-extruded aluminum components (other than fasteners). Danfoss LLC's micro channel heat exchangers are fully assembled finished goods that are permanently assembled and completed at the time of entry and are ready for installation into a downstream product with no further finishing or fabrication subsequent to importation; November 3, 2014.

A-570-967 and C-570-968: Aluminum Extrusions From the People's Republic of China

Requestor: Unger Enterprises, Inc. (Unger). The products at issue were eight models of grabbers designed to allow users to grasp objects in difficult to reach places. Each model of grabber was comprised of extruded aluminum and non-aluminum materials. The Department found that each model of grabber met the exclusion criteria for finished merchandise because they contained extruded aluminum as well as non-extruded aluminum materials and because they enter the United States as grabbers that are fully and permanently assembled and completed at the time of entry, and are ready for use as imported; November 4, 2014.

A-570-967 and C-570-968: Aluminum Extrusions From the People's Republic of China

Requestor: Pacific Product Solutions (“Pacific Product”); Pacific Product's motorized arm sets, which are composed of two motorized arms and all hardware necessary for installation of the arms to the RV or Trailer (not imported with the awning or roller bar) and contain non-extruded aluminum components beyond fasteners, are outside the scope of the orders on aluminum extrusions from the PRC because they are finished good kits containing all of the components needed to fully assemble a final finished good, requiring no further finishing or fabrication prior to installation in the ultimate downstream product; November 4, 2014.

A-570-967 and C-570-968: Aluminum Extrusions From the People's Republic of China

Requestor: Clik-Clik Systems Inc.; Clik-Clik Systems Inc.'s MagPoles, which are telescoping extension poles consisting of aluminum extrusion tubes, fiberglass tubes, plastic handles, plastic/copper buttons, steel springs, steel rolling pins, zinc end pieces, aluminum rivets, rubber bumpers, and paper labels, are outside the scope of the orders on aluminum extrusions from the PRC because they are finished goods containing aluminum extrusions as parts that are fully and permanently assembled and completed at the time of entry; November 19, 2014.

A-570-967 and C-570-968: Aluminum Extrusions From the People's Republic of China

Requestor: JED Pool Tools, Inc. (JED); The products at issue were eight models of telescopic pool poles; two models of detachable skimmer poles; three models of leak skimmers; and six models of leaf rakes. The products are used in the cleaning of swimming pools. The telescopic pool poles vary in size but all consist of separate hollow pieces of extruded aluminum tubes that are connected by a plastic threaded locking mechanism and plastic handle. The detachable skimmer poles are telescopic extruded aluminum poles with plastic locking mechanism and plastic handle. The leaf skimmers and rakes consist of a plastic frame, extruded aluminum handle, and nylon net. The Department found that the products at issue met the exclusion criteria for finished merchandise. The Department found that the leaf skimmers and rakes are permanently assembled and completed at the time of entry and are ready for use as hand held cleaning tools at the time of importation, and therefore constitute excluded finished merchandise. Concerning the telescopic pool poles and detachable skimmer poles, the Department found that the products constitute excluded finished merchandise because they are permanently assembled and completed merchandise that are designed to work with removable/interchangeable attachments; November 24, 2014.

A-570-967 and C-570-968: Aluminum Extrusions From the People's Republic of China

Requestor: ECCO Group (“ECCO”); ECCO's heat sinks for light-emitting-diode (“LED”) light bars are within the scope of the scope of the orders on aluminum extrusions from the PRC because ECCO failed to demonstrate that its heat sinks for LED light bars, which are solid profiles of series 6063 extruded aluminum, meet the two criteria to qualify for the finished heat sink exclusion in the scope, i.e., that: (1) the design and production of the imported heat sinks for LED light bars are organized around meeting specified thermal performance requirements; and, (2) the imported heat sinks for LED light bars are fully, albeit not necessarily individually, tested to comply with the specified thermal performance requirements; November 24, 2014.

A-570-967 and C-570-968: Aluminum Extrusions From the People's Republic of China

Requestor: Circle Glass Co.; Circle Glass Co.'s screen and storm door grille, consisting of an extruded aluminum frame that has been permanently combined with a non-extruded aluminum mesh grille made of aluminum wire, with extruded aluminum mounting brackets riveted to the frame (and screws), is outside the scope of the orders on aluminum extrusions from the PRC because it is a fully assembled subassembly that is completed at the time of entry and is ready for immediate installation in a larger system. Circle Glass Co.'s patio door kits without the screen are within the scope of the scope of the orders on aluminum extrusions from the PRC because Circle Glass Co.'s patio door kits consist of an extruded aluminum door frame, a plastic handle, a steel latch, a strike, rivets, screws, and four steel door roller/corner combination units, but do not contain a screen. Thus, they do not qualify for the finished goods kit exclusion, which only applies to kits containing, at the time of importation, all the parts necessary to construct a complete finished good; December 5, 2014.

A-570-899: Artist Canvas From the People's Republic of China

Requestor: Alex Toys, Inc.; Alex Toys, Inc.'s “Paint A Canvas”/“Color A Canvas” preprinted, paint-it-yourself artist canvases (whether or not imported as part of kits) are outside the scope of the order because the canvases are pre-printed paint-it-yourself canvases with copyrighted designs, that fall within the exclusion for “paint-by-number” or “paint-it-yourself” artist canvases with a copyrighted preprinted outline; November 18, 2014.

A-570-827: Certain Cased Pencils From the People's Republic of China

Requestor: West Texas Lighthouse for the Blind; West Texas Lighthouse for the Blind's orange flexible pencils made of polyvinyl chloride (“PVC”) with a black carbon material writing core are outside the scope of the order because the outside sheath of the flexible pencils is not rigid; October 27, 2014.

A-570-901: Certain Lined Paper Products From the People's Republic of China

Requestor: Banker's Pen (1991) Inc. (“Bankers Pen”); Bankers Pen's notebook, style number ST4191, is comprised of black polyurethane cover and measures 8 inches by 11 inches. The notebook meets the exclusion criteria for case bound books and, thus is outside the scope of the order; December 11, 2014.

A-570-506: Porcelain-on-Steel Cooking Ware From the People's Republic of China

Requestor: The Companion Group; The Companion Group's rectangular and round drip pans are within the scope of the antidumping duty Order because the products: (1) Are constructed of steel and are enameled or glazed with vitreous glasses; (2) do not have self-contained electric heating elements; and (3) are used as cooking ware; December 10, 2014.

A-570-894: Tissue Paper Products From the People's Republic of China

Requestor: Lamrite West Inc. dba Darice Inc. (Darice); Darices's DTP908 David Tutera Tissue Tassels and POM100 Tissue Poms are within the scope of the antidumping duty order because the physical characteristics of these (e.g., basis weight, width, shape, color, and packaging) satisfy the physical criteria of the merchandise enumerated in the scope, and these products do not meet the criteria of any of the tissue paper products excluded from the scope; October 20, 2014.

A-570-890: Wooden Bedroom From the People's Republic of China

Requestor: KidKraft, LP; Austin and Raleigh model toy boxes are not covered by the scope of the antidumping duty order because the Austin model meets the scope exclusion for toy boxes and the Raleigh model has nearly all of the physical characteristics of excluded toy boxes and has characteristics consistent with excluded benches/seating furniture; November 21, 2014.

A-570-890: Wooden Bedroom From the People's Republic of China

Requestor: Maxim Company Taiwan, Ltd.; construction vehicle toddler beds resembling a toy front-end loader are not covered by the scope of the antidumping duty order because they are designed to use a standard crib mattress and they conform to ASTM F 1821-13; November 19, 2014.

Taiwan

A-583-843: Polyethylene Retail Carrier Bags From Taiwan

Requestor: Polyethylene Retail Carrier Bag Committee and its individual members, Hilex Poly Co., LLC and Superbag Corp.; Certain unfinished polyethylene retail carrier bags from Taiwan that appear ready to undergo the final processing of cutting the unfinished polyethylene retail carrier bag to length, sealing the bottoms, and die-cutting the unfinished polyethylene retail carrier bags to create the handles of the finished polyethylene retail carrier bags are circumventing the antidumping duty order. The unfinished polyethylene retail carrier bags subject to this determination may or may not have printing and may be of different dimensions as long as they meet the description of the scope of the order; October 9, 2014.

Interested parties are invited to comment on the completeness of this list of completed scope and anticircumvention inquiries. Any comments should be submitted to the Deputy Assistant Secretary for AD/CVD Operations, Enforcement and Compliance, International Trade Administration, 14th Street and Constitution Avenue NW., APO/Dockets Unit, Room 1870, Washington, DC 20230.

This notice is published in accordance with 19 CFR 351.225(o).

Dated: April 10, 2015.
Christian Marsh,
Deputy Assistant Secretary for Antidumping and Countervailing Duty Operations.

[FR Doc. 2015-09583 Filed 4-23-15; 8:45 am]

BILLING CODE 3510-DS-P